SMALL BUSINESS ADMINISTRATION

Meeting of the Interagency Task Force on Veterans Small Business Development

AGENCY: U.S. Small Business Administration

ACTION: Notice of open Federal Interagency Task Force Meeting.

SUMMARY: The SBA is issuing this notice to announce the loation, date, time and agenda for the next meeting of the Interagency Task Force on Veterans Small Business Development. The meeting will be open to the public.

DATES: Date and Time: Thursday, September 15, 2016, from 9:00 a.m. to 12:00 noon.

ADDRESSES: U.S. Small Business Administration, 409 3rd Street SW., Washington, DC 20416.

Where: Eisenhower Conference room, side b, located on the Concourse level.

SUPPLEMENTARY INFORMATION: Pursuant to section 10(a)(2) of the Federal Advisory Committee Act (5 U.S.C., Appendix 2), SBA announces the meeting of the Interagency Task Force on Veterans Small Business Development. The Task Force is established pursuant to Executive Order 13540 and focused on coordinating and pre-established Federal contracting goals for small business concers owned and controlled by veterans and service-disabled veterans. Moreover, the Task Force shall coordinate administrative and regulatory activities and develop proposals relating to “six focus areas”: (1) Access to capital (loans, surety bonding and franchising); (2) Ensure achievement of pre-established contracting goals, including mentor protégé and matching with contracting opportunities; (3) Increase the integrity of certifications of status as a small business; (4) Reducing paperwork and administrative burdens in accessing business development and entrepreneurship opportunities; (5) Increasing and improving training and counseling services; and (6) Making other improvements to support veteran business development by the Federal government.

Additional Information: This meeting is open to the public. Advance notice of attendance is requested. Anyone wishing to attend and/or make comments to the Task Force must contact the Office of Veterans Business Development no later than September 9, 2016 at vetstaskforce@sba.gov. Comments for the record should be applicable to the “six focus areas” of the Task Force and will be limited to five minutes in the interest of time and to accommodate as many participants as possible. Written comments should also be sent to the above email no later than September 9, 2016. Special accomodations requests should also be directed to the Office of Veterans Business Development at (202) 205-6773 or above email. For more information on veteran owned small business programs, please visit www.sba.gov/vets.

Dated: August 2, 2016.
Miguel J. L'Heureux,
SBA Committee Management Officer.

[FR Doc. 2016-19489 Filed 8-15-16; 8:45 am]

BILLING CODE P